DEPARTMENT OF ENERGY

Federal Energy Regulatory Commission

Combined Notice of Filings # 1

July 10, 2007.

Take notice that the Commission received the following electric rate filings:

Docket Numbers: ER01-2741-004; ER02-237-007; ER07-734-001; ER07-407-001.

Applicants: Plains End, LLC; J. Aron & Company; Plains End II, LLC; High Prairie Wind Farm II, LLC.

Description: J Aron & Co, Plains End, LLC, Plains End II, LLC and High Prairie Wind Farm, LLC submits a notice of non-material change in status, in compliance with Order 652.

Filed Date: 06/29/2007.

Accession Number: 20070703-0076.

Comment Date: 5 p.m. Eastern Time on Friday, July 20, 2007.

Docket Numbers: ER03-345-009.

Applicants: ISO New England Inc.

Description: ISO New England, Inc submits a Semi-Annual Status Report on Load Response Programs for the period October 2006 through March 2007.

Filed Date: 06/29/2007.

Accession Number: 20070703-0075.

Comment Date: 5 p.m. Eastern Time on Friday, July 20, 2007.

Docket Numbers: ER07-43-002.

Applicants: Arizona Public Service Company.

Description: Arizona Public Service Company submits its responses to the 1/30/07 deficiency letter issued its request to cancel the 1968 Purchase and Transmission Agreement etc.

Filed Date: 06/29/2007.

Accession Number: 20070703-0077.

Comment Date: 5 p.m. Eastern Time on Friday, July 20, 2007.

Docket Numbers: ER07-740-001.

Applicants: Southwestern Electric Power Company.

Description: Southwestern Electric Power Co submits their compliance filing consisting of power supply agreement with Hope Water and Light Commission.

Filed Date: 06/29/2007.

Accession Number: 20070702-0057.

Comment Date: 5 p.m. Eastern Time on Friday, July 20, 2007.

Docket Numbers: ER07-741-001.

Applicants: Southwestern Electric Power Company.

Description: Southwestern Electric Power Co submits the Power Supply Agreement for requirements service dated 12/13/06 with City of Bentonville, Arkansas in compliance with FERC's 5/31/07 letter order.

Filed Date: 06/29/2007.

Accession Number: 20070703-0114.

Comment Date: 5 p.m. Eastern Time on Friday, July 20, 2007.

Docket Numbers: ER07-752-002; ER07-753-002; ER07-754-002; ER07-755-002; ER07-756-002.

Applicants: Westar Energy, Inc.

Description: Westar Energy, Inc submits Substitute First Revised Sheet 2, under FERC Electric Tariff, Volume 11 for the City of Burlingame etc amending the weekly cap.

Filed Date: 06/28/2007.

Accession Number: 20070703-0115.

Comment Date: 5 p.m. Eastern Time on Thursday, July 19, 2007.

Docket Numbers: ER07-883-002.

Applicants: Southwest Power Pool, Inc.

Description: Southwest Power Pool, Inc submits an executed Service Agreement for Network Integration Transmission Service with Kansas City Power and Light Company.

Filed Date: 06/29/2007.

Accession Number: 20070703-0113.

Comment Date: 5 p.m. Eastern Time on Friday, July 20, 2007.

Docket Numbers: ER07-886-001.

Applicants: Southwest Power Pool, Inc.

Description: Southwest Power Pool, Inc submits the Network Operating Agreement to their 5/11/07 filing of an executed service agreement with Kansas Electric Power Coop, Inc.

Filed Date: 06/29/2007.

Accession Number: 20070702-0059.

Comment Date: 5 p.m. Eastern Time on Friday, July 20, 2007.

Docket Numbers: ER07-913-001.

Applicants: Atlantic City Electric Company.

Description: Atlantic City Electric Company submits Substitute First Sheet 298B et al. to FERC Electric Tariff, Sixth Revised Volume 1.

Filed Date: 06/29/2007.

Accession Number: 20070703-0116.

Comment Date: 5 p.m. Eastern Time on Friday, July 20, 2007.

Docket Numbers: ER07-1077-001.

Applicants: California Independent System Operator Corporation.

Description: California Independent System Operator Corporation submits clarifications re the amendment to the ISO Tariff and the June 2007 Congestion Revenue Rights Credit Policy Amendment.

Filed Date: 06/29/2007.

Accession Number: 20070703-0060.

Comment Date: 5 p.m. Eastern Time on Friday, July 20, 2007.

Docket Numbers: ER07-1097-000.

Applicants: New England Power Pool Participants Committee.

Description: New England Power Pool Participants Committee submits counterpart signature pages of the New England Power Pool Agreement.

Filed Date: 06/29/2007.

Accession Number: 20070702-0056.

Comment Date: 5 p.m. Eastern Time on Friday, July 20, 2007.

Docket Numbers: ER07-1098-000.

Applicants: Southwest Power Pool, Inc.

Description: Southwest Power Pool Inc submits an unexecuted services agreement for Network Integration Transmission Service Agreement with Grand River Dam Authority.

Filed Date: 06/29/2007.

Accession Number: 20070702-0063.

Comment Date: 5 p.m. Eastern Time on Friday, July 20, 2007.

Docket Numbers: ER07-1099-000.

Applicants: Southwest Power Pool, Inc.

Description: Southwest Power Pool Inc submits an unexecuted service agreement for Network Transmission Service with Western Farmers Electric Cooperative Inc.

Filed Date: 06/29/2007.

Accession Number: 20070702-0062.

Comment Date: 5 p.m. Eastern Time on Friday, July 20, 2007.

Docket Numbers: ER07-1101-000.

Applicants: ISO New England Inc.

Description: ISO New England, Inc et al. submit a limited revision to the Forward Capacity Market, Market Rules conditionally accepted by FERC on 4/16/07 to extend stakeholder process etc.

Filed Date: 06/29/2007.

Accession Number: 20070703-0023.

Comment Date: 5 p.m. Eastern Time on Friday, July 20, 2007.

Docket Numbers: ER07-1102-000.

Applicants: PJM Interconnection, L.L.C.

Description: PJM Interconnection, LLC submits agreements for Network Integration Transmission Service under PJM Open Access Transmission Tariff and notices of cancellation for 2 NITSAs that has been superseded.

Filed Date: 06/29/2007.

Accession Number: 20070703-0022.

Comment Date: 5 p.m. Eastern Time on Friday, July 20, 2007.

Docket Numbers: ER07-1103-000.

Applicants: Niagara Mohawk Power Corporation.

Description: Niagara Mohawk Power Corporation dba National Grid submits a power purchase agreement, dated 6/30/98 with Indeck-Oswego Limited Partnership.

Filed Date: 06/29/2007.

Accession Number: 20070703-0021.

Comment Date: 5 p.m. Eastern Time on Friday, July 20, 2007.

Docket Numbers: ER07-1104-000.

Applicants: Fitchburg Gas and Electric Light Company.

Description: Fitchburg Gas and Electric Light Company submits its data and schedules used to calculate its annual transmission revenue requirement for Non-PTF Local Network Transmission Services etc.

Filed Date: 06/29/2007.

Accession Number: 20070703-0020.

Comment Date: 5 p.m. Eastern Time on Friday, July 20, 2007.

Docket Numbers: ER07-1105-000.

Applicants: Cedar Creek Wind Energy, LLC.

Description: Cedar Creek Wind Energy LLC submits an application for authorization to make wholesale sales of energy and capacity and ancillary services at negotiated, market-based rates.

Filed Date: 06/29/2007.

Accession Number: 20070703-0019.

Comment Date: 5 p.m. Eastern Time on Friday, July 20, 2007.

Docket Numbers: ER07-1106-000.

Applicants: ArcLight Energy Marketing, LLC.

Description: ArcLight Energy Marketing, LLC submits its application for order accepting market-based tariff, granting waivers and blanket authorization and request for expedited action.

Filed Date: 06/29/2007.

Accession Number: 20070703-0018.

Comment Date: 5 p.m. Eastern Time on Friday, July 20, 2007.

Docket Numbers: ER07-1107-000.

Applicants: Central Maine Power Company.

Description: Central Maine Power Company submits its Annual Informational Filing which consists of the annual update to the formula rates in Schedule 21-CMP of the ISO-NE Transmission, Markets, and Services Tariff etc.

Filed Date: 06/29/2007.

Accession Number: 20070703-0017.

Comment Date: 5 p.m. Eastern Time on Friday, July 20, 2007.

Docket Numbers: ER07-1108-000.

Applicants: American Electric Power Service Corp.

Description: AEP Operating Companies submits and requests acceptance of an original Interconnection and Local Delivery Service Agreement with the City of Dover, Ohio designated as Service Agreement 1677.

Filed Date: 06/29/2007.

Accession Number: 20070703-0016.

Comment Date: 5 p.m. Eastern Time on Friday, July 20, 2007.

Docket Numbers: ER07-1109-000.

Applicants: American Electric Power Service Corp.

Description: American Electric Power Service Corporation agent for Ohio Power Company et al. submits and requests acceptance of a ninth revision to the Interconnection and Local Delivery Service Agreement etc.

Filed Date: 06/29/2007.

Accession Number: 20070703-0015.

Comment Date: 5 p.m. Eastern Time on Friday, July 20, 2007.

Docket Numbers: ER07-1110-000.

Applicants: Southern California Edison Company.

Description: Southern California Edison Company submits a Small Generator Interconnection Agreement and a Service Agreement for Wholesale Distribution Service with Brea Power Partners, LP.

Filed Date: 06/29/2007.

Accession Number: 20070703-0014.

Comment Date: 5 p.m. Eastern Time on Friday, July 20, 2007.

Docket Numbers: ER07-1111-000.

Applicants: Appalachian Power Company.

Description: Appalachian Power Company submits a Cost-Based Formula Rate Agreement for Full Requirements Electric Service (including Appendices A through C) dated 6/28/07 with American Electric Power Service Corp et al.

Filed Date: 06/29/2007.

Accession Number: 20070703-0013.

Comment Date: 5 p.m. Eastern Time on Friday, July 20, 2007.

Docket Numbers: ER07-1112-000.

Applicants: BE Allegheny LLC.

Description: Application of BE Allegheny LLC for order accepting rates for filing and granting waivers and blanket approvals.

Filed Date: 06/29/2007.

Accession Number: 20070703-0073.

Comment Date: 5 p.m. Eastern Time on Friday, July 20, 2007.

Docket Numbers: ER07-1113-000.

Applicants: BE CA LLC.

Description: BE CA, LLC's application for order accepting rates as designated as Original Sheet 1 et al to FERC Electric Tariff, Original Volume 1 for filing & granting waivers and blanket approvals.

Filed Date: 06/29/2007.

Accession Number: 20070703-0074.

Comment Date: 5 p.m. Eastern Time on Friday, July 20, 2007.

Docket Numbers: ER07-1114-000.

Applicants: BE Cleco LLC.

Description: Application of BE Cleco LLC for order accepting rates for filing and granting waivers and blanket approvals.

Filed Date: 06/29/2007.

Accession Number: 20070703-0062.

Comment Date: 5 p.m. Eastern Time on Friday, July 20, 2007.

Docket Numbers: ER07-1115-000.

Applicants: BE Coloquitt LLC.

Description: Application of BE Colquitt LLC for order accepting rates for filing and granting waivers and blanket approvals.

Filed Date: 06/29/2007.

Accession Number: 20070703-0063.

Comment Date: 5 p.m. Eastern Time on Friday, July 20, 2007.

Docket Numbers: ER07-1116-000.

Applicants: BE Ironwood LLC.

Description: Application of BE Ironwood LLC for order accepting rates for filing and granting waivers and blanket approvals.

Filed Date: 06/29/2007.

Accession Number: 20070703-0064.

Comment Date: 5 p.m. Eastern Time on Friday, July 20, 2007.

Docket Numbers: ER07-1117-000.

Applicants: BE KJ LLC.

Description: Application of BE KJ LLC for order accepting rates for filing and granting waivers and blanket approvals.

Filed Date: 06/29/2007.

Accession Number: 20070703-0065.

Comment Date: 5 p.m. Eastern Time on Friday, July 20, 2007.

Docket Numbers: ER07-1118-000.

Applicants: BE Rayle LLC.

Description: Application of BE Rayle LLC for order accepting rates for filing and granting waivers and blanket approvals.

Filed Date: 06/29/2007.

Accession Number: 20070703-0066.

Comment Date: 5 p.m. Eastern Time on Friday, July 20, 2007.

Docket Numbers: ER07-1119-000.

Applicants: BE Red Oak LLC.

Description: Application of BE Red Oak LLC for order accepting rates for filing and granting waivers and blanket approvals under ER07-1119.

Filed Date: 06/29/2007.

Accession Number: 20070703-0067.

Comment Date: 5 p.m. Eastern Time on Friday, July 20, 2007.

Docket Numbers: ER07-1120-000.

Applicants: BE Satilla LLC.

Description: Application of BE Satilla LLC for order accepting rates for filing and granting waivers and blanket approvals.

Filed Date: 06/29/2007.

Accession Number: 20070703-0068.

Comment Date: 5 p.m. Eastern Time on Friday, July 20, 2007.

Docket Numbers: ER07-1121-000.

Applicants: BE Tenaska LLC.

Description: Application of BE Tenaska LLC for order accepting rates for filing and granting waivers and blanket approvals.

Filed Date: 06/29/2007.

Accession Number: 20070703-0069.

Comment Date: 5 p.m. Eastern Time on Friday, July 20, 2007.

Docket Numbers: ER07-1122-000.

Applicants: BE Walton LLC.

Description: Application of BE Waltlon LLC for order accepting rates for filing and granting waivers and blanket approvals.

Filed Date: 06/29/2007.

Accession Number: 20070703-0070.

Comment Date: 5 p.m. Eastern Time on Friday, July 20, 2007.

Docket Numbers: ER07-1123-000.

Applicants: Southern California Edison Company.

Description: Southern California Edison Company submits revised sheets to the Laguna Bell-Vermon Interconnection Service Agreement with the City of Vernon, CA designated Rate Schedule 472.

Filed Date: 06/29/2007.

Accession Number: 20070703-0071.

Comment Date: 5 p.m. Eastern Time on Friday, July 20, 2007.

Docket Numbers: ER07-1124-000.

Applicants: Niagara Mohawk Power Corporation.

Description: Niagara Mohawk Power Corporation dba National Grid submits its Notice of Cancellation of the Amended and Restated Power Sales Agreement with Fulton Cogeneration Associates LP.

Filed Date: 06/29/2007.

Accession Number: 20070703-0072.

Comment Date: 5 p.m. Eastern Time on Friday, July 20, 2007.

Docket Numbers: ER07-1127-000.

Applicants: Wisconsin Public Service Corporation.

Description: Wisconsin Public Service Corp notifies FERC that its Service Agreement 9 dated 10/26/05 w/Washington Island Electric Cooperative under FERC Electric Tariff, Fifth Revised Vol 1 has been terminated effective 6/1/07.

Filed Date: 06/29/2007.

Accession Number: 20070705-0195.

Comment Date: 5 p.m. Eastern Time on Friday, July 20, 2007.

Take notice that the Commission received the following public utility holding company filings:

Docket Numbers: PH07-25-000.

Applicants: Ecofin Holdings Limited.

Description: FERC-65A Exemption Notification of Status of Ecofin Holdings Ltd as Passive Investors under PH07-25.

Filed Date: 06/29/2007.

Accession Number: 20070629-4023.

Comment Date: 5 p.m. Eastern Time on Friday, July 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-13818 Filed 7-17-07; 8:45 am]

BILLING CODE 6717-01-P